NATIONAL TRANSPORTATION SAFETY BOARD

SES Performance Review Board

AGENCY: National Transportation Safety Board.

ACTION: Notice.

SUMMARY: Notice is hereby given of the appointment of members of the National Transportation Safety Board Performance Review Board.

FOR FURTHER INFORMATION CONTACT: Anh Bolles, Chief, Human Resources Division, Office of Administration, National Transportation Safety Board, 490 L'Enfant Plaza, SW., Washington, DC 20594-0001, (202) 314-6355.

SUPPLEMENTARY INFORMATION: Section 4314 (c)(1) through (5) of Title 5, United States code requires each agency to establish, in accordance with regulations prescribed by the Office of Personnel Management, one or more SES performance review boards. The board reviews and evaluates the initial appraisal of a senior executive's performance by the supervisor, and considers recommendations to the appointing authority regarding the performance of the senior executive. The following have been designated as members of the Performance Review Board of the National Transportation Safety Board:

The Honorable Robert L. Sumwalt, Vice Chairman, National Transportation Safety Board; PRB Chair.

The Honorable Deborah A.P. Hersman, Member, National Transportation Safety Board.

Steven Goldberg, Chief Financial Officer, National Transportation Safety Board.

Lowell Martin, Deputy Executive Director, Consumer Products Safety Commission.

Richard Brechbiel, Chief Human Capital Officer, Small Business Administration.

Joseph G. Osterman, Managing Director, National Transportation Safety Board.

Dated: November 17, 2006.
Vicky D'Onofrio,
Federal Register Coordinator.

[FR Doc. 06-9359 Filed 11-22-06; 8:45 am]

BILLING CODE 7533-01-M